DEPARTMENT OF ENERGY

Federal Energy Regulatory Commission

Combined Notice of Filings #1

Take notice that the Commission received the following electric corporate filings:

Docket Numbers: EC24-122-000.

Applicants: PGR Holdco, LP, Allora Solar, LLC, PGR 2021 Lessee 19, LLC, Apex Solar, LLC, Beulah Solar, LLC, PGR 2021 Lessee 2, LLC, TWE Bowman Solar Project, LLC, PGR Lessee L, LLC, Bulldog Solar, LLC, PGR 2021 Lessee 9, LLC, Cabin Creek Solar, LLC, PGR 2021 Lessee 12, LLC, Cane Creek Solar, LLC, PGR 2022 Lessee 4, LLC, Centerfield Cooper Solar, LLC, PGR Lessee O, LLC, PGR 2021 Lessee 17, LLC, Fresh Air Energy XXIII, LLC, PGR 2022 Lessee 2, LLC, Eastover Solar, LLC, Glover Creek Solar, LLC, PGR 2022 Lessee 9, LLC, Gunsight Solar, LLC, PGR 2021 Lessee 15, LLC, Highest Power Solar, LLC, PGR 2021 Lessee 7, LLC, Landrace Holdings, LLC, PGR 2021 Lessee 18, LLC, Lick Creek Solar, LLC, PGR 2021 Lessee 5, LLC, Peony Solar, LLC, Phobos Solar, LLC, PGR 2021 Lessee 11, LLC, Sonny Solar, LLC, PGR 2021 Lessee 13, LLC, Stanly Solar, LLC, PGR 2021 Lessee 1, LLC, Sugar Solar, LLC, PGR 2020 Lessee 8, LLC, Trent River Solar, LLC, Trent River Solar Mile Lessee, LLC, Two Hearted Solar, LLC, Virginia Line Solar, LLC, PGR 2022 Lessee 1, LLC, Moonshot Solar, LLC, PGR 2022 Lessee 5, LLC, West River Solar, LLC.

Description: Application for Authorization Under Section 203 of the Federal Power Act of PGR Holdco, LP.

Filed Date: 9/16/24.

Accession Number: 20240916-5153.

Comment Date: 5 p.m. ET 10/7/24.

Take notice that the Commission received the following exempt wholesale generator filings:

Docket Numbers: EG24-291-000.

Applicants: Prairie Center Energy LLC.

Description: Prairie Center Energy LLC submits Corrected Notice of Self-Certification of Exempt Wholesale Generator Status.

Filed Date: 9/19/24.

Accession Number: 20240919-5144.

Comment Date: 5 p.m. ET 10/10/24.

Docket Numbers: EG24-292-000.

Applicants: Henrietta BESS LLC.

Description: Henrietta BESS LLC submits Notice of Self-Certification of Exempt Wholesale Generator Status.

Filed Date: 9/19/24.

Accession Number: 20240919-5034.

Comment Date: 5 p.m. ET 10/10/24.

Docket Numbers: EG24-293-000.

Applicants: Hanford BESS LLC.

Description: Hanford BESS LLC submits Notice of Self-Certification of Exempt Wholesale Generator Status.

Filed Date: 9/19/24.

Accession Number: 20240919-5036.

Comment Date: 5 p.m. ET 10/10/24.

Docket Numbers: EG24-294-000.

Applicants: Malaga BESS LLC.

Description: Malaga BESS LLC submits Notice of Self-Certification of Exempt Wholesale Generator Status.

Filed Date: 9/19/24.

Accession Number: 20240919-5037.

Comment Date: 5 p.m. ET 10/10/24.

Take notice that the Commission received the following electric rate filings:

Docket Numbers: ER24-2223-000.

Applicants: Roundtop Energy LLC.

Description: Refund Report: Refund Report to be effective N/A.

Filed Date: 9/19/24.

Accession Number: 20240919-5132.

Comment Date: 5 p.m. ET 10/10/24.

Docket Numbers: ER24-2224-000.

Applicants: Beaver Dam Energy LLC.

Description: Refund Report: Refund Report to be effective N/A.

Filed Date: 9/19/24.

Accession Number: 20240919-5139.

Comment Date: 5 p.m. ET 10/10/24.

Docket Numbers: ER24-2225-000.

Applicants: Alpaca Energy LLC.

Description: Refund Report: Refund Report to be effective N/A.

Filed Date: 9/19/24.

Accession Number: 20240919-5142.

Comment Date: 5 p.m. ET 10/10/24.

Docket Numbers: ER24-2226-000.

Applicants: Milan Energy LLC.

Description: Refund Report: Refund Report to be effective N/A.

Filed Date: 9/19/24.

Accession Number: 20240919-5143.

Comment Date: 5 p.m. ET 10/10/24.

Docket Numbers: ER24-2227-000.

Applicants: Wolf Run Energy LLC.

Description: Refund Report: Refund Report to be effective N/A.

Filed Date: 9/19/24.

Accession Number: 20240919-5166.

Comment Date: 5 p.m. ET 10/10/24.

Docket Numbers: ER24-2228-000.

Applicants: Oxbow Creek Energy LLC.

Description: Refund Report: Refund Report to be effective N/A.

Filed Date: 9/19/24.

Accession Number: 20240919-5178.

Comment Date: 5 p.m. ET 10/10/24.

Docket Numbers: ER24-2669-001.

Applicants: CleanChoice Power Solutions, LLC.

Description: Tariff Amendment: Amendment to 1 to be effective 9/1/2024.

Filed Date: 9/18/24.

Accession Number: 20240918-5154.

Comment Date: 5 p.m. ET 9/30/24.

Docket Numbers: ER24-3075-000.

Applicants: Florida Power & Light Company.

Description: § 205(d) Rate Filing: Rate Schedule No. 351 FPL and FMPA Agreement for Dynamic Scheduling Services to be effective 11/18/2024.

Filed Date: 9/18/24.

Accession Number: 20240918-5148.

Comment Date: 5 p.m. ET 10/9/24.

Docket Numbers: ER24-3076-000.

Applicants: PJM Interconnection, L.L.C.

Description: Tariff Amendment: Notice of Cancellation of WMPA SA No. 6111, AD1-016 to be effective 11/19/2024.

Filed Date: 9/19/24.

Accession Number: 20240919-5035.

Comment Date: 5 p.m. ET 10/10/24.

Docket Numbers: ER24-3077-000.

Applicants: PJM Interconnection, L.L.C.

Description: Tariff Amendment: Notice of Cancellation of ICSA, Service Agreement No. 5862, Queue No. AB2-070 to be effective 11/19/2024.

Filed Date: 9/19/24.

Accession Number: 20240919-5041.

Comment Date: 5 p.m. ET 10/10/24.

Docket Numbers: ER24-3078-000.

Applicants: PJM Interconnection, L.L.C.

Description: Tariff Amendment: Notice of Cancellation of WMPA, SA No. 6114, Queue AD1-129 to be effective 11/19/2024.

Filed Date: 9/19/24.

Accession Number: 20240919-5043.

Comment Date: 5 p.m. ET 10/10/24.

Docket Numbers: ER24-3079-000.

Applicants: Arizona Public Service Company.

Description: § 205(d) Rate Filing: Service Agreement No. 424, E&P Agreement between APS & APS to be effective 8/21/2024.

Filed Date: 9/19/24.

Accession Number: 20240919-5086.

Comment Date: 5 p.m. ET 10/10/24.

Docket Numbers: ER24-3080-000.

Applicants: Arizona Public Service Company.

Description: § 205(d) Rate Filing: Rate Schedule No. 217, Exhibit B Revisions to be effective 11/21/2024.

Filed Date: 9/19/24.

Accession Number: 20240919-5087.

Comment Date: 5 p.m. ET 10/10/24.

Docket Numbers: ER24-3081-000.

Applicants: PJM Interconnection, L.L.C.

Description: § 205(d) Rate Filing: Original GIA Service Agreement No. 7348, AG1-495 to be effective 8/20/2024.

Filed Date: 9/19/24.

Accession Number: 20240919-5111.

Comment Date: 5 p.m. ET 10/10/24.

Docket Numbers: ER24-3082-000.

Applicants: Alabama Power Company, Georgia Power Company, Mississippi Power Company.

Description: § 205(d) Rate Filing: Alabama Power Company submits tariff filing per 35.13(a)(2)(iii: FP&L Transmission Interconnection Agreement Amendment Filing to be effective 8/21/2024.

Filed Date: 9/19/24.

Accession Number: 20240919-5115.

Comment Date: 5 p.m. ET 10/10/24.

Docket Numbers: ER24-3083-000.

Applicants: Midcontinent Independent System Operator, Inc.

Description: § 205(d) Rate Filing: 2024-09-19_SA 4276 NIPSCO-Monroe Power 1st Rev GIA (J1355) to be effective 9/11/2024.

Filed Date: 9/19/24.

Accession Number: 20240919-5118.

Comment Date: 5 p.m. ET 10/10/24.

Docket Numbers: ER24-3084-000.

Applicants: San Diego Gas & Electric.

Description: § 205(d) Rate Filing: Service Agreement No. 68 to be effective 6/18/2024.

Filed Date: 9/19/24.

Accession Number: 20240919-5129.

Comment Date: 5 p.m. ET 10/10/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 19, 2024.
Debbie-Anne A. Reese,
Acting Secretary.

[FR Doc. 2024-21991 Filed 9-25-24; 8:45 am]

BILLING CODE 6717-01-P